ENVIRONMENTAL PROTECTION AGENCY

40 CFR Part 52

[EPA-R07-OAR-2016-0280; FRL-9947-80-Region 7]

Approval of Iowa's State Implementation Plan (SIP); Definition of Greenhouse Gas and Prevention of Significant Deterioration (PSD) Plantwide Applicability Limits (PALs) Revisions

AGENCY: Environmental Protection Agency (EPA).

ACTION: Proposed rule.

SUMMARY: The Environmental Protection Agency (EPA) is proposing to approve two SIP revisions submitted by the State of Iowa. First, EPA is proposing to approve the definition of greenhouse gas, which will make the state's definition consistent with the Federal definition, and add greenhouse gases to emission inventory requirements. Second, EPA is proposing to approve Iowa's revision to its Prevention of Significant Deterioration (PSD) program, specifically to the definition of “subject to regulation,” and adopt by reference the most recent Federal plantwide applicability limitations (PALs) provisions.

DATES: Written comments must be received by July 18, 2016.

ADDRESSES: Submit your comments, identified by Docket ID No. EPA-R07-OAR-2016-0280, to http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Heather Hamilton, Environmental Protection Agency, Air Planning and Development Branch, 11201 Renner Boulevard, Lenexa, Kansas 66219 at 913-551-7039, or by email at Hamilton.heather@epa.gov.

SUPPLEMENTARY INFORMATION: This document proposes to take action to approve the definition of greenhouse gas, and add greenhouse gases to emission inventory requirements. We have published a direct final rule approving the State's SIP revision (s) in the “Rules and Regulations” section of this Federal Register, because we view this as a noncontroversial action and anticipate no relevant adverse comment. We have explained our reasons for this action in the preamble to the direct final rule. If we receive no adverse comment, we will not take further action on this proposed rule. If we receive adverse comment, we will withdraw the direct final rule and it will not take effect. We would address all public comments in any subsequent final rule based on this proposed rule. We do not intend to institute a second comment period on this action. Any parties interested in commenting must do so at this time. For further information, please see the information provided in the ADDRESSES section of this document.

List of Subjects in 40 CFR Part 52

Environmental protection, Air pollution control, Greenhouse gases, Incorporation by reference, Reporting and recordkeeping requirements.

Dated: June 3, 2016.
Mark Hague,
Regional Administrator, Region 7.

[FR Doc. 2016-14281 Filed 6-16-16; 8:45 am]

BILLING CODE 6560-50-P